FEDERAL MARITIME COMMISSION

Notice of Agreement Filed

The Commission hereby gives notice of the filing of the following agreement under the Shipping Act of 1984. Interested parties may submit comments on the agreement to the Secretary, Federal Maritime Commission, Washington, DC 20573, within ten days of the date this notice appears in the Federal Register. A Copy of the agreement is available through the Commission's Web site (http://www.fmc.gov) or by contacting the Office of Agreements at (202)-523-5793 or tradeanalysis@fmc.gov.

Agreement No.: 012103-001.

Title: CMA CGM/CSAV Victory Bridge Vessel Sharing Agreement.

Parties: CMA CGM, S.A. and Compania Sud American de Vapores S.A.

Filing Party: Draughn Arbona, Esq.; Associate Counsel & Environmental Officer; CMA CGM (America) LLC; 5701 Lake Wright Drive; Norfolk, VA 23502.

Synopsis: The amendment revises the number and size of vessels operated under the agreement and the slot allocations between the parties.

By Order of the Federal Maritime Commission.
Dated: September 16, 2011.
Rachel E. Dickon,
Assistant Secretary.

[FR Doc. 2011-24268 Filed 9-20-11; 8:45 am]

BILLING CODE 6730-01-P